DEPARTMENT OF COMMERCE

Foreign-Trade Zones Board

[S-223-2019]

Approval of Subzone Status; Commerce Warehouse Group, LLC; Rock Hill, South Carolina

On October 30, 2019, the Executive Secretary of the Foreign-Trade Zones (FTZ) Board docketed an application submitted by the South Carolina State Ports Authority, grantee of FTZ 38, requesting subzone status subject to the existing activation limit of FTZ 38, on behalf of Commerce Warehouse Group, LLC, in Rock Hill, South Carolina.

The application was processed in accordance with the FTZ Act and Regulations, including notice in the Federal Register inviting public comment (84 FR 59615, November 5, 2019). The FTZ staff examiner reviewed the application and determined that it meets the criteria for approval. Pursuant to the authority delegated to the FTZ Board Executive Secretary (15 CFR 400.36(f)), the application to establish Subzone 38Q was approved on December 18, 2019, subject to the FTZ Act and the Board's regulations, including Section 400.13, and further subject to FTZ 38's 2,000-acre activation limit.

Dated: December 18, 2019.
Andrew McGilvray,
Executive Secretary.

[FR Doc. 2019-27796 Filed 12-23-19; 8:45 am]

BILLING CODE 3510-DS-P